DEPARTMENT OF ENERGY

Federal Energy Regulatory Commission

Notice of New Docket Prefix “MO”

November 5, 2003.

Notice is hereby given that a new docket prefix “MO” has been established to identify Issuances related to Market Oversight activities.

Magalie R. Salas,
Secretary.

[FR Doc. E3-00202 Filed 11-12-03; 8:45 am]

BILLING CODE 6717-01-P